ENVIRONMENTAL PROTECTION AGENCY

[EPA-HQ-OAR-2011-0742; FRL 9511-1]

Agency Information Collection Activities; Submission to OMB for Review and Approval; Comment Request; Air Pollution Regulations for Outer Continental Shelf (OCS) Activities (Renewal)

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR, which is abstracted below, describes the nature of the information collection and its estimated burden and cost.

DATES: Additional comments may be submitted on or before February 27, 2012.

ADDRESSES: Submit your comments, referencing docket ID number EPA-HQ-OAR-2011-0742, to (1) the EPA on-line at www.regulations.gov, or by mail to: U.S. Environmental Protection Agency, EPA Docket Center, Air and Radiation Docket and Information Center, Mail Code 28221T, 1200 Pennsylvania Avenue NW., Washington, DC 20460, and (2) the OMB at: Office of Information and Regulatory Affairs, Office of Management and Budget, Attention: Desk Officer for EPA, 725 17th Street NW., Washington, DC 20503.

FOR FURTHER INFORMATION CONTACT: David Painter, Office of Air Quality Planning and Standards, Air Quality Policy Division (C504-03), U.S. Environmental Protection Agency, Research Triangle Park, NC 27711; telephone number: (919) 541-5515; fax number: (919) 541-5509; email address: painter.david@epa.gov.

SUPPLEMENTARY INFORMATION: The EPA has submitted the following ICR to the OMB for review and approval according to the procedures prescribed in 5 CFR 1320.12. On September 20, 2011 (76 FR 58273), EPA sought comments on this ICR pursuant to 5 CFR 1320.8(d). EPA received no comments. EPA completed an active consultation with the U.S. Department of Interior's Bureau of Ocean Energy Management (BOEM) (formerly the Minerals Management Service) in November 2011. Three comments were received, and the EPA has addressed the comments. Any additional comments on this ICR should be submitted to the EPA and the OMB within 30 days of this notice.

The EPA has established a public docket for this ICR under Docket ID No. EPA-HQ-OAR-2011-0742, which is available for online viewing at www.regulations.gov, or in person viewing at the Air and Radiation Docket and Information Center in the EPA Docket Center (EPA/DC), EPA West, Room 3334, 1301 Constitution Avenue NW., Washington, DC. The EPA Docket Center Public Reading Room is open from 8:30 a.m. to 4:30 p.m., Monday through Friday, excluding legal holidays. The telephone number for the Reading Room is (202) 566-1744, and the telephone number for the Air Docket is (202) 566-1742.

Use the EPA's electronic docket and comment system at www.regulations.gov to submit or view public comments, access the index listing of the contents of the docket, and to access those documents in the docket that are available electronically. Once in the system, select “docket search,” then key in the docket ID number identified above. Please note that the EPA's policy is that public comments, whether submitted electronically or in paper, will be made available for public viewing at www.regulations.gov as the EPA receives them and without change, unless the comment contains copyrighted material, confidential business information (CBI), or other information whose public disclosure is restricted by statute. For further information about the electronic docket, go to www.regulations.gov.

Title: Air Pollution Regulations for Outer Continental Shelf (OCS) Activities (Renewal).

ICR numbers: EPA ICR No. 1601.08, OMB Control No. 2060-0249.

ICR Status: This ICR is currently scheduled to expire on January 31, 2012. Under OMB regulations, the agency may continue to conduct or sponsor the collection of information while this submission is pending at the OMB. An agency may not conduct or sponsor, and a person is not required to respond to, a collection of information, unless it displays a currently valid OMB control number. The OMB control numbers for the EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: Section 328 of the Clean Air Act gives EPA responsibility for regulating air pollution from outer continental shelf (OCS) sources located offshore of the states along the Pacific, Arctic and Atlantic Coasts, and along the eastern Gulf of Mexico coast (off the coast of Florida). In general, these OCS sources must obtain preconstruction permits (usually Prevention of Significant Deterioration or “PSD” permits) and title V operating permits, and then maintain ongoing compliance with their permit conditions. Industry respondents include owners or operators of existing and new or modified OCS sources. These respondents must prepare permit applications and, after receiving their permits, conduct testing, monitoring, recordkeeping and reporting as required by their permits. The recordkeeping and reporting requirements are necessary so that EPA can determine whether these sources are meeting all the requirements that apply to them. EPA has delegated the authority to implement and enforce the OCS regulations for sources located off the coast of California to four local air pollution control agencies.

These agency respondents must review sources' permit applications and reports, issue permits, observe performance tests and conduct inspections to ensure that the sources are meeting all the requirements that apply to them. Section 176(c) of the Clean Air Act (42 U.S.C. 7401 et seq.) requires that all federal actions conform with the State Implementation Plans (SIPs) to attain and maintain the NAAQS. Depending on the type of action, the federal entities must collect information themselves, hire consultants to collect the information or require applicants/sponsors of the federal action to provide the information.

The type and quantity of information required will depend on the circumstances surrounding the action. First, the entity must make an applicability determination. If the source is located within 25 miles of the state's seaward boundaries as established in the regulations, the requirements are the same as those that would be applicable if the source were located in the corresponding onshore area. State and local air pollution control agencies are usually requested to provide information concerning regulation of offshore sources and are provided opportunities to comment on the proposed determinations. The public is also provided an opportunity to comment on the proposed determinations.

Burden Statement: The annual public reporting and recordkeeping burden for this collection of information is estimated to average 124 hours per response. Burden means the total time, effort or financial resources expended by persons to generate, maintain, retain or disclose or provide information to or for a federal agency. This includes the time needed to review instructions; develop, acquire, install and utilize technology and systems for the purposes of collecting, validating and verifying information, processing and maintaining information and disclosing and providing information; adjust the existing ways to comply with any previously applicable instructions and requirements which have subsequently changed; train personnel to be able to respond to a collection of information; search data sources; complete and review the collection of information; and transmit or otherwise disclose the information.

Estimated Total Number of Potential Respondents: 42 (38 sources and 4 local agencies).

Estimated Number of Responses: 228.

Frequency of Response: Annual.

Estimated Total Annual Burden Hours: 28,174.

Estimated Total Annual Costs: $2,532,877, which includes no annualized capital/startup costs, $34,900 in O&M costs and $2,497,977 in annual labor costs.

Changes in the Estimates: There is a decrease of 2,623 hours and $7,856 in capital/startup and O&M costs in the total estimated burden currently identified in the OMB Inventory of Approved ICR Burdens. This decrease has occurred because projections from BOEM and other considerations have resulted in changes in the number, mix and types of sources projected to occur in the upcoming clearance period. As a result of the decrease in annual burden hours, which is partially offset by updated 2011 wage rates, the estimated annual labor cost has decreased by $70,212.

John Moses,
Director, Collection Strategies Division.

[FR Doc. 2012-1746 Filed 1-26-12; 8:45 am]

BILLING CODE 6560-50-P